ENVIRONMENTAL PROTECTION AGENCY

[ER-FRL-6656-7]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in FR dated April 2, 2004 (69 FR 17403).

Draft EISs

ERP No. D-COE-K36140-CA Rating LO, Prado Basin Water Supply Feasibility Study, To Increase Conservation of Surplus Water at Prado Dam and Flood Control Basin, Orange County Water District, Orange, Riverside, and San Bernardino Counties, CA.

Summary: EPA supports the selection of Alternative 2 as the preferred alternative and recommended consideration of additional mitigation measures for habitat impacts.

ERP No. D-FRC-G03022-LA Rating EC2, Sabine Pass Liquefied Natural Gas (LNG) and Pipeline Project, Construction and Operation LNG Import Terminal and Natural Gas Pipeline Facilities, Several Permits, Cameron Parish, LA.

Summary: EPA expressed environmental concerns and requested additional discussion in the FEIS on wetland mitigation, water quality and dredged material toxicity.

ERP No. DS-FHW-F40309-00 Rating EC2, MN-36/WI-64 St. Croix River Crossing Project, Construction of a New Crossing between the Cities of Stillwater and Oak Park Heights in Washington County, MN and the Town of St. Joseph in St. Croix County, WI, Updated and Additional Information, Funding, Washington County, MN and St. Croix County, WI.

Summary: EPA expressed environmental concerns based on uncertainty of the outcomes of the National Park Service section 7(a) evaluation under the National Wild and Scenic Rivers Act and the Section 106 process under the National Historic Preservation Act.

Final EISs

ERP No. F-FHW-F40418-IL Macomb Area Study, Construction from U.S. Route 67 (FAP-310) and Illinois Route 336 (FAP-315), City of Macomb, McDonough County, IL.

Summary: The Final EIS addressed EPA's concerns regarding rational for wildlife underpasses, use of native plants for mitigation and USFWS coordination. EPA requested information in the ROD regarding wetland mitigation ratios and stormwater management at the La Moine River crossings.

ERP No. F-FHW-K40246-CA CA-905 Freeway or Tollway Construction Project, Route Location, Adoption and Construction, Otay Mesa Port of Entry to I-805, Funding and U.S. Army COE Section 404 Permit Issuance, San Diego County, CA.

Summary: EPA supports the preferred alternative and conceptual mitigation plan.

ERP No. F-FHW-L40219-AK Gravina Access Project, Transportation Improvements between Revillagigedo Island and Gravina Island, Funding, Endangered Species Act 7, NPDES and U.S. Army COE Section 404 Permits Issuance, Ketchikan Gateway Borough, AK.

Summary: No formal comment letter was sent to the preparing agency.

ERP No. F-NOA-L64049-AK Bering Sea and Aleutian Islands King and Tanner Crab Fisheries and Fishery Management Plan, Implementation, United States Exclusive Economic Zone (EEZ) off Alaska.

Summary: No formal comment letter sent to the preparing agency.

Dated: October 12, 2004.
Ken Mittelholtz,
Environmental Protection Specialist, Office of Federal Activities.

[FR Doc. 04-23153 Filed 10-14-04; 8:45 am]

BILLING CODE 6560-50-P